DEPARTMENT OF HEALTH AND HUMAN SERVICES

Centers for Medicare & Medicaid Services

[CMS-5058-N2]

Medicare Program; Section 3113: The Treatment of Certain Complex Diagnostic Laboratory Tests Demonstration; Extension of the Deadline for Submission of Supporting Information

AGENCY: Centers for Medicare & Medicaid Services (CMS), HHS.

ACTION: Notice of extension of the deadline for submission of supporting information.

SUMMARY: This notice extends the deadline for submitting supporting information to request a temporary code under the Treatment of Certain Complex Diagnostic Laboratory Tests Demonstration. The deadline for submitting supporting information to request a temporary code under the Demonstration, which ended on August 1, 2011, has been extended to September 6, 2011.

DATES: Supporting information to request a temporary code under the Demonstration is due to CMS on or before September 6, 2011.

ADDRESSES: Supporting information should be mailed to the following address: Centers for Medicare & Medicaid Services, Attention: Linda R. Lebovic, 7500 Security Boulevard, Mail Stop: C4-14-15, Baltimore, Maryland 21244-1850.

Please refer to file code [CMS-5058-N] on all supporting information for a temporary G-code under the Demonstration. Because of staffing and resource limitations, we cannot accept proposals by facsimile (Fax) transmission. Hard copies and electronic copies must be identical.

FOR FURTHER INFORMATION CONTACT: Linda R. Lebovic at (410) 786-3402 or by e-mail at ACA3113labdemo@cms.hhs.gov.

SUPPLEMENTARY INFORMATION: On July 5, 2011, we published a notice in the Federal Register (76 FR 39110 through 39111) to inform interested parties of an opportunity to participate in the Treatment of Certain Complex Diagnostic Laboratory Tests Demonstration. The Demonstration is mandated by section 3113 of the Affordable Care Act. The notice also serves to notify interested parties that they must obtain a temporary code from CMS for tests currently billed using a “not otherwise classified (NOC)” code but that would otherwise meet the criteria set forth in section 3113 for being a complex diagnostic laboratory test under the Demonstration.

Following the publication of the July 5, 2011 notice, CMS received requests from the public to extend the deadline beyond August 1, 2011. We believe we can accommodate the public's request to extend the deadline for submitting the supporting information needed to request a Temporary Demonstration G-code and still begin payment under the Demonstration beginning January 1, 2012 as planned. We have decided to extend the deadline for submitting supporting information to September 6, 2011.

(Catalog of Federal Domestic Assistance Program No. 93.773, Medicare—Hospital Insurance; and Program No. 93.774, Medicare—Supplementary Medical Insurance Program)

Dated: August 4, 2011.
Donald M. Berwick,
Administrator, Centers for Medicare & Medicaid Services.

[FR Doc. 2011-20304 Filed 8-5-11; 4:15 pm]

BILLING CODE 4120-01-P